DEPARTMENT OF COMMERCE

National Oceanic and Atmospheric Administration

[RTID 0648-XB403]

Fisheries of the Caribbean, Gulf of Mexico, and South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. Matthew Ajermian of Harbor Branch Oceanographic Institute of Florida Atlantic University (FAU). If granted, the EFP would authorize the captain and crew of certain federally permitted charter vessels to collect limited numbers of snapper-grouper, coastal migratory pelagic, and dolphin and wahoo species in the waters of the U.S. exclusive economic zone (EEZ) off the Florida east coast. The purpose of the EFP is to quantify shark depredation impacts in the recreational fisheries off the Atlantic using a citizen science approach.

DATES: Written comments must be received no later than November 8, 2021.

ADDRESSES: You may submit comments on the application, identified by “NOAA-NMFS-2021-0087, by either of the following methods:

Electronic Submission: Submit all electronic public comments via the Federal e-Rulemaking Portal. Go to https://www.regulations.gov and enter “NOAA-NMFS-2021-0087” in the Search box. Click the “Comment” icon, complete the required fields, and enter or attach your comments.

Mail: Submit written comments to Karla Gore, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter N/A in the required fields if you wish to remain anonymous).

Electronic copies of the EFP application and related documents are available from the website at https://www.fisheries.noaa.gov/southeast/south-atlantic-exempted-fishing-permits-efp.

FOR FURTHER INFORMATION CONTACT: Karla Gore, 727-824-5305; email: karla.gore@noaa.gov.

SUPPLEMENTARY INFORMATION: The EFP is requested under the authority of the Magnuson-Stevens Fishery Conservation and Management Act (16 U.S.C. 1801 et seq.), and by regulations at 50 CFR 600.745(b) concerning exempted fishing.

Shark depredation is an emerging issue that is reportedly impacting a variety of fisheries in the South Atlantic. The scope of these impacts has not been quantified within the snapper-grouper, coastal migratory pelagic, or dolphin and wahoo recreational fisheries. To gain an improved understanding of these impacts, the applicant requests authorization to collect recreationally harvested snapper-grouper, coastal migratory pelagic, and dolphin and wahoo species with indication of shark depredation. Evidence of shark depredation to these landed fish would include fresh teeth marks and active bleeding; partially removed trunk tissues (scales, skin and muscle); exposed musculature and/or internal organs; or missing fins. Any such fish that are identified as exhibiting shark depredation would be retained by the fishermen, isolated from other recreational catch, and transferred to the scientific team at FAU when the authorized charter vessels return to port. Any such fish so retained would then be swabbed for DNA and assessed to identify the shark species responsible for the depredation.

The applicant and representatives would conduct collections on four federally permitted for-hire charter vessels in the snapper-grouper, coastal migratory pelagic, or dolphin and wahoo fisheries. As a result of project budget limitations and logistics, the applicant and representatives cannot be present on the designated charter vessels for every trip throughout the EFP timeframe and thus seek approval for the charter vessel captains and crews to collect shark depredated fish species opportunistically when the applicant or representatives would not be present on the authorized charter vessels during their fishing trips. These authorized charter vessels would include paying charter passengers, and those passengers may be the individuals who actually catch the fish with evidence of depredation. Any fish with shark depredation caught by paying customers would be turned over to the vessel crew to be subsequently provided to the scientific team at FAU for genetic analysis. Four federally permitted for-hire charter vessel captains have been identified to conduct EFP collection activities when the applicant or representatives are not aboard the authorized charter vessels.

Under the EFP, charter vessels would continue with routine fishing operations using hook and line techniques (bottom fishing and trolling using artificial and natural bait) in natural and hard bottom habitats in Federal waters between Sebastian Inlet and Jupiter Inlet, Florida, ranging from 3 to 30 nautical miles (5.6 to 55.6 km) offshore. NMFS expects that the researchers would collect enough samples over the course of 200 fishing days. Collections would only take place on the approved project charter vessels.

If granted, this EFP would exempt the project's scientists and the captains and crews of the authorized charter vessels from the snapper-grouper seasonal closures and seasonal harvest limitations regulations codified at 50 CFR 622.183, and 50 CFR 622.184; from the landing fish intact regulations at 50 CFR 622.186 (snapper-grouper), 50 CFR 622.276 (dolphin and wahoo), and 50 CFR 622.381 (coastal migratory pelagic); from the recreational bag limit regulations codified at 50 CFR 622.187 (snapper-grouper), 50 CFR 622.277 (dolphin and wahoo), and 50 CFR 622.382 (coastal migratory pelagic); and from the size limit regulations codified at 50 CFR 622.185 (snapper-grouper), 50 CFR 622.275 (dolphin and wahoo), and 50 CFR 622.380 (coastal migratory pelagic). Charter customers aboard the authorized charter vessels would be subject to all current Federal for-hire regulations during the course of routine fishing operations. Only the captain and crew aboard the authorized charter vessels would be permitted to retain species with evidence of shark depredation that may be recreationally harvested out of season, or out of the authorized recreational bag limits or size limits. These shark depredated fish would be provided to the scientific team at FAU at the end of the fishing trip.

The duration of any issued EFP would be from the date of issuance of the EFP through August 1, 2023.

The authorized captain and crew of the charter vessels, during the course of routine operations, would target snapper-grouper, dolphin and wahoo, and coastal migratory pelagic species. Over the course of the EFP, a maximum of 120 total snapper-grouper with evidence of shark depredation would be retained under the EFP. Additionally, over the course of the EFP, a maximum of 60 total dolphin and wahoo, combined, with evidence of shark depredation; and up to 60 total coastal migratory pelagic fish, combined (king mackerel, Spanish mackerel, and cobia), with evidence of shark depredation would be retained.

Under the EFP, the selected and authorized charter vessel captains and crew would retain carcasses of species caught with evidence of shark depredation during the course of normal for-hire charter operations. Shark depredated species carcasses caught opportunistically may be retained under the EFP, even if seasonal closures, minimum size limits, and bag limits are in effect.

NMFS finds this application warrants further consideration based on a preliminary review. Possible conditions the agency may impose on this permit, if it is granted, include but are not limited to, a prohibition on conducting sampling activities within marine protected areas, marine sanctuaries, or special management zones, without additional authorization, and requiring compliance with best practices in the event of interactions with any protected species. NMFS may also require annual reports summarizing the amount of shark-depredated carcasses harvested during the period of effectiveness of any issued EFP. NMFS requires that all federally permitted charter vessels participating under this EFP are compliant with all legal requirements, including the Southeast For-Hire Electronic Reporting Program. Additionally, NMFS would require any sea turtles taken incidentally during the course of the activities to be handled with due care to prevent injury to live specimens, observed for activity, and returned to the water.

A final decision on issuance of the EFP will depend on NMFS' review of public comments received on the application, consultations with the affected state, the South Atlantic Fishery Management Council, and the U.S. Coast Guard, and a determination that it is consistent with all applicable law.

Authority: 16 U.S.C. 1801 et seq.

Dated: October 4, 2021.
Jennifer M. Wallace,
Acting Director, Office of Sustainable Fisheries, National Marine Fisheries Service.

[FR Doc. 2021-21982 Filed 10-7-21; 8:45 am]

BILLING CODE 3510-22-P